DEPARTMENT OF COMMERCE

National Oceanic and Atmospheric Administration

RIN 0648-XG693

Endangered Species; Take of Steelhead

AGENCY: National Marine Fisheries Service (NMFS), National Oceanic and Atmospheric Administration (NOAA), U.S. Department of Commerce.

ACTION: Notice of receipt for one application to renew a scientific enhancement permit.

SUMMARY: Notice is hereby given that NMFS received an application from NMFS' California Coastal Office in Long Beach, California to renew their U.S. Endangered Species Act (ESA) scientific enhancement permit (permit 14159-2R). The purpose of this permit is to enhance the survival of the endangered Southern California Distinct Population Segment of steelhead (Oncorhynchus mykiss) through rescue and relocation of at-risk steelhead, ecological research, and invasive species management. The public is hereby notified that the application for Permit 14159-2R is available for review and comment before NMFS either approves or disapproves the application.

DATES: Written comments on the permit application must be received at the appropriate address or fax number (see ADDRESSES) on or before March 11, 2019.

ADDRESSES: Written comments on the permit application should be submitted to Matt McGoogan, NMFS, California Coastal Office, 501 W. Ocean Blvd., Suite 4200, Long Beach, California 90802. Comments may also be submitted via email (matthew.mcgoogan@noaa.gov) or fax (562) 980-4027. The permit application is available for review, by appointment, at the foregoing address or online at the Authorizations and Permits for Protected Species website: https://apps.nmfs.noaa.gov/preview/preview_open_for_comment.cfm.

FOR FURTHER INFORMATION CONTACT: Matt McGoogan, phone: (562) 980-4026 or email: matthew.mcgoogan@noaa.gov.

SUPPLEMENTARY INFORMATION: Species Covered in This Notice: Endangered Southern California Distinct Population Segment of steelhead (Oncorhynchus mykiss).

Authority

Scientific research and enhancement permits are issued in accordance with Section 10(a)(1)(A) of the ESA (16 U.S.C. 1531 et. seq) and regulations governing listed fish and wildlife permits (50 CFR 222-227). NMFS issues permits based on findings that such permits (1) are applied for in good faith, (2) would not operate to the disadvantage of the listed species which are the subject of the permits, and (3) are consistent with the purposes and policies set forth in Section 2 of the ESA. Authority to take listed species is subject to conditions set forth in the permits.

This notice is provided pursuant to Section 10(c) of the ESA. NMFS will evaluate the application, associated documents, and any comment submitted to determine whether the application meets the requirements of Section 10(a) of the ESA and Federal regulations. The final permit decisions will not be made until after the end of the 30-day comment period and consideration of any comment submitted therein. NMFS will publish notice of its final action in the Federal Register.

Those individuals requesting a hearing on the application listed in this notice should provide the specific reasons why a hearing on the application would be appropriate (see ADDRESSES). Such a hearing is held at the discretion of the Assistant Administrator for NOAA Fisheries.

Permit Application Received:

Permit 14159-2R

NMFS' California Coastal Office in Long Beach, California applied to renew their Section 10(a)1(A) scientific enhancement permit (permit 14159-2R). This application involves enhancing the survival of the endangered Southern California (SC) Distinct Population Segment (DPS) of steelhead (Oncorhynchus mykiss) through (1) rescue and relocation of at-risk steelhead, (2) ecological research, and (3) invasive species management. Activities associated with these three primary components could occur anywhere within the range for the SC DPS of steelhead. A summary of these components is provided as follows.

1. Rescue and Relocation

This component involves rescuing and relocating steelhead from stream sections experiencing natural dewatering during the dry season or prolonged periods of below average rainfall. Specific staff listed on the application from both NMFS and the California Department of Fish and Wildlife (CDFW) will follow a predetermined communication and documentation protocol while implementing these relocation efforts. Standard scientific methods and equipment (e.g., backpack-electrofishing, nets, seines, portable air pumps, transport containers, water chillers, etc.) will be used during the capture and relocation of steelhead. Captured steelhead will be transported for release into habitats within the same watershed (when possible) that are determined likely to maintain adequate water and habitat quality through the remainder of the dry season. Because this is an endangered population with low abundance, relocating steelhead from sections of stream where they will likely perish is expected to benefit the survival of this species.

2. Ecological Research

Basic information regarding the ecology of endangered SC steelhead is extremely limited, yet such information is critical for guiding science-based decisions regarding the conservation of this species. As a result, NMFS proposes field-based investigations to produce much-needed empirical data, particularly data concerning the ecology of endangered steelhead. The empirical data would benefit endangered steelhead through informing species-management and protection efforts, including work NMFS undertakes while enforcing certain provisions of the ESA. Specific NMFS' staff listed on the application will implement this research. Proposed ecological research elements under this application could include any of the following: (1) Salvaging steelhead carcasses to assess age, growth, and toxicology; (2) trapping emergent fry to assess spawning ecology; (3) capturing juvenile steelhead to assess the effectiveness of steelhead relocation; (4) collecting and maintaining steelhead to improve species management and protection; and (5) developing a predictive model for the maximum size of juvenile steelhead in streams. Standard scientific methods and procedures (e.g., Passive Integrated Transponder-tagging, fin-clip/DNA analysis, scale sampling, otolith analysis, anesthesia etc.) are proposed for implementing these research elements.

3. Invasive Species Management

NMFS' recovery plan for endangered SC steelhead highlights non-native aquatic plant and animal species as a threat to steelhead in many watersheds across the SC DPS of steelhead. Non-native fish, crustaceans, and amphibians can harm steelhead indirectly through competition for resources (e.g., food, living space) or degradation of habitat quality and directly through predation on steelhead. As such, removing these non-native species is expected to be highly beneficial for steelhead. Specific NMFS and CDFW staff listed on the application will implement standard methods for capture and removal of invasive species (e.g., backpack-electrofishing, seining, hand-nets, traps, hook-and-line angling, spearfishing). Invasive species management methods will target capture and removal of non-native species; however, these activities may also result in the capture of steelhead in the process. Steelhead captured during invasive species management will be (1) measured for length and weight, (2) potentially have a tissue sample (i.e., fin clip, scale) taken, and (3) returned unharmed to the stream. Any non-native species captured will be humanely euthanized and disposed.

Field activities for the various proposed enhancement components can occur year-round between May 1, 2019, and December 31, 2029. The annual sum of take requested across the various components of this effort is as follows: (1) Non-lethal capture and release of up to 4,000 juvenile steelhead while electrofishing, (2) non-lethal capture and release of up to 200 juvenile steelhead while seining, (3) non-lethal capture and release of up to 100 adult steelhead using hand net or seine, (4) collection and retention of up to 110 adult and 300 juvenile steelhead carcasses, (5) non-lethal capture and release of up to 5 adult and 600 juvenile steelhead for the purpose of applying Passive Integrated Transponder-tags, (6) non-lethal capture and release up to 2000 fry during emergent trapping, (7) non-lethal capture of up to 5 juvenile steelhead while hook-and-line angling, and (8) non-lethal observation of up to 2000 juvenile and 50 adult steelhead during instream snorkel surveys. The potential annual unintentional lethal steelhead take resulting from the proposed enhancement activities is up to 241 juvenile, 100 fry, and 2 adult. The potential annual intentional (directed) lethal take includes up to 200 steelhead fry.

This proposed scientific enhancement effort is expected to enhance survival and support steelhead recovery across the entire SC DPS of steelhead and is consistent with recommendations and objectives outlined in NMFS' Endangered Southern California Steelhead Recovery Plan. See the Permit 14159-2R application for greater details on the various components of this scientific enhancement effort including the specific scientific methods proposed and take allotments requested for each.

Dated: February 1, 2019.
Angela Somma,
Chief, Endangered Species Division, Office of Protected Resources, National Marine Fisheries Service.

[FR Doc. 2019-01375 Filed 2-6-19; 8:45 am]

BILLING CODE 3510-22-P